DEPARTMENT OF STATE

[Public Notice 11340]

Bureau of Political-Military Affairs, Directorate of Defense Trade Controls: Notifications to the Congress of Proposed Commercial Export Licenses

AGENCY: Department of State.

ACTION: Notice.

SUMMARY: The Directorate of Defense Trade Controls and the Department of State give notice that the attached Notifications of Proposed Commercial Export Licenses were submitted to the Congress on the dates indicated. Four notifications inadvertently omitted a date from their letters, but all were confirmed to have been submitted to the Congress on August 1, 2020. Where that occurred, the date has been added within brackets to the letters reproduced here.

DATES: As shown on each of the 34 letters.

FOR FURTHER INFORMATION CONTACT: Ms. Paula C. Harrison, Directorate of Defense Trade Controls (DDTC), Department of State at (202) 663-3310; or access the DDTC website at https://www.pmddtc.state.gov/ddtc_public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in a timely manner. The following comprise recent such notifications and are published to give notice to the public.

July 7, 2020

The Honorable Nancy Pelosi, Speaker of the House of Representatives

Dear Madam Speaker:

Pursuant to Section 36(c) of the Arms Export Control Act, the Department of State is transmitting certification of a proposed license for the export of defense articles, including technical data and defense services, in the amount of $50,000,000 or more.

The transaction contained in the attached certification involves the export of defense articles, including technical data and defense services, to Germany, Pakistan, and the UK to support the sale, delivery, installation, operation, training, and maintenance of thirteen (13) TPS-77(e)(2) Multi-Role Radar Systems (MRR)

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-012.

September 2, 2020

The Honorable Nancy Pelosi, Speaker of the House of Representatives.

Dear Madam Speaker:

Pursuant to Section 36(c) of the Arms Export Control Act, the Department of State is transmitting certification of a proposed license for the export of firearms abroad controlled under Category I of the U.S. Munitions List in the amount of $1,000,000 or more.

The transaction contained in the attached certification involves the export to the UAE of fully automatic 5.56mm rifles.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-018.

[August 1, 2020]

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to the UAE and the UK to support the delivery, design, development, installation, integration, maintenance, production, repair, retrofit, sales, and support of the DB-110 and MS-110 Airborne Reconnaissance System, including their associated ground station and datalink with corresponding software.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-042.

August 13, 2020

The Honorable Nancy Pelosi, Speaker of the House of Representatives.

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to the UAE to support the delivery and operation of the Predator XP (EP) unmanned aircraft system.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-048.

July 23, 2020

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to Jamaica of 5.56mm automatic carbines and major components.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-104.

July 23, 2020

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Australia, Austria, Finland, Germany, Norway, and Qatar to support the survey, integration, testing, installation, operation, training, repair, demonstration, and maintenance of the National Advanced Surface to Air Missile System (NASAMS).

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-106.

July 8, 2020

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to France to support the integration, installation, operation, training, testing, maintenance, and repair of the Airborne Warning and Control System (AWACS) E-3F Cockpit Upgrade (FCU) Program.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-111.

August 6, 2020

The Honorable Nancy Pelosi, Speaker of the House of Representatives.

Dear Madam Speaker:

Pursuant to Section 36(c) of the Arms Export Control Act, please find enclosed a certification of a proposed license for the export of firearms abroad controlled under Category I of the U.S. Munitions List in the amount of $1,000,000 or more.

The transaction contained in the attached certification involves the export to the UAE of 5.56mm automatic rifles.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-115.

September 22, 2020

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Belgium, Czech Republic, Germany, Denmark, Spain, UK, Greece, Hungary, Italy, Luxembourg, Netherlands, Norway, Poland, Portugal, Romania, and Turkey to support the upgrade of the Airborne Warning and Control System (AWACS) and related equipment.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-118.

September 2, 2020

The Honorable Nancy Pelosi, Speaker of the House of Representatives.

Dear Madam Speaker:

Pursuant to Section 36(c) of the Arms Export Control Act, please find enclosed a certification of a proposed license for the export of defense articles, including technical data, and defense services in the amount of $50,000,000 or more.

The transaction contained in the attached certification involves the export of defense articles, including technical data and defense services, to Australia and the UAE for the integration of M230LF Automatic chain guns and associated hardware with a R-400S-MK2-D remote weapons systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-121.

August 6, 2020

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to the Netherlands and the UK to support the manufacture of F-35 aircraft arresting gear systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-122.

September 2, 2020

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Japan to support the direct commercial sale, support, operation, testing, training, logistical support, maintenance, and repair of the radar antennas and cooling systems for the Aegis Ashore Japan Program.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 19-127.

September 2, 2020

The Honorable Nancy Pelosi, Speaker of the House of Representatives.

Dear Madam Speaker:

Pursuant to Sections (c) 36 of the Arms Export Control Act, please find enclosed a certification of a proposed license for the export of defense articles, including technical data and defense services, in the amount of $100,000,000 or more.

The transaction contained in the attached certification involves the export of defense articles, including technical data, and defense services to Italy to support the manufacture, assembly, inspection, and delivery of F-135 propulsions systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-007.

July 17, 2020

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Saudi Arabia, Australia and the UK to support the integration, installation, operation, training, testing, maintenance, and repair of Falcon III Communications Systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-008.

[August 1, 2020]

The Honorable Nancy Pelosi, Speaker of the House of Representatives.

Dear Madam Speaker:

Pursuant to Section 36(d) of the Arms Export Control Act, please find enclosed a certification of a proposed license for the export of defense articles, including technical data and defense services, for the manufacture of significant military equipment abroad.

The transaction contained in the attached certification involves the export of defense articles, including technical data and defense services, to Austria, Belgium, Netherlands, Norway, Germany, Portugal, Saudi Arabia, Spain and the UK to support the manufacture, integration, installation, operation, training, testing, maintenance, sales, and repair of aircraft countermeasures for use with CH-47 Chinook, EH-101 Merlin Mark 2, and Puma rotary wing aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-010.

July 23, 2020

The Honorable Nancy Pelosi, Speaker of the House of Representatives.

Dear Madam Speaker:

Pursuant to Section 36(d) of the Arms Export Control Act, please find enclosed a certification of a proposed license for the export of defense articles, including technical data and defense services, for the manufacture of significant military equipment abroad.

The transaction contained in the attached certification involves the export of defense articles, including technical data and defense services, to Qatar to support the manufacture, production, integration, troubleshooting, and maintenance of the Fusion Rail System onto ARX 160 rifles.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-013.

[August 1, 2020]

The Honorable Nancy Pelosi, Speaker of the House of Representatives.

Dear Madam Speaker:

Pursuant to Section 36(c) and (d) of the Arms Export Control Act, please find enclosed a certification of a proposed license for the manufacture of significant military equipment abroad and the export of firearms, parts, and components abroad controlled under Category I of the U.S. Munitions List in the amount of $1,000,000 or more.

The transaction contained in the attached certification involves the export of defense articles, including technical data and defense services, to Qatar to support the manufacture of upper and lower receivers and charging handle components for the KMA 762 7.62mm automatic rifle.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-014.

September 2, 2020

The Honorable Nancy Pelosi, Speaker of the House of Representatives.

Dear Madam Speaker:

Pursuant to Section 36(d) of the Arms Export Control Act, I am transmitting, herewith, certification of a proposed license for the export of defense articles, including technical data and defense services, for the manufacture of significant military equipment abroad.

The transaction contained in the attached certification involves the export of technical data, and defense services to the Republic of Korea to support the replication and incorporation of object code of the Have Quick I/II Electronic-Counter Counter Measure (ECCM) waveform into Software Compliant Architecture (SCA)-compliant radio equipment.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-015.

July 31, 2020

The Honorable Nancy Pelosi, Speaker of the House of Representatives.

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to Mexico to support the manufacture of aircraft electrical and environmental components for use in various U.S. combat aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-016.

August 6, 2020

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to France and the UAE to support the integration of the SNIPER Advanced Targeting Pod on Mirage aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-018.

September 2, 2020

The Honorable Nancy Pelosi, Speaker of the House of Representatives.

Dear Madam Speaker:

Pursuant to Section 36(d) of the Arms Export Control Act, please find enclosed a certification of a proposed license for the export of defense articles, including technical data and defense services, for the manufacture of significant military equipment abroad.

The transaction contained in the attached certification involves the export of defense articles, including technical data and defense services, to Qatar to support the manufacture, integration, installation, operation, training, testing, maintenance, and repair of 40mm grenade launchers.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-019.

September 11, 2020

The Honorable Nancy Pelosi, Speaker of the House of Representatives.

Dear Madam Speaker:

Pursuant to Section 36(c) and (d) of the Arms Export Control Act, please find enclosed a certification of a proposed license for the export of defense articles, including technical data, and defense services in the amount of $50,000,000 or more.

The transaction contained in the attached certification involves the export of defense articles, including technical data, and defense services to Mexico to support the manufacture, test, inspection and rework of parts and components of various gas turbine engines for use in U.S. military air and ground platforms consisting of F-35, F-22, F-18, B-1B, B-2A, M1A1, F117, CH-47 and AW-159.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-020.

August 19, 2020

The Honorable Nancy Pelosi, Speaker of the House of Representatives.

Dear Madam Speaker:

Pursuant to Section 36(c) of the Arms Export Control Act, please find enclosed a certification of a proposed license amendment for the export of defense articles, including technical data, and defense services in the amount of $100,000,000 or more.

The transaction contained in the attached certification involves the export of defense articles, including technical data, and defense services to Belgium, France, Germany, the Netherlands, and the UK to support the licensed manufacture of Patriot PAC-3 Missile Segment Canister Assemblies.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-021.

September 2, 2020

The Honorable Nancy Pelosi, Speaker of the House of Representatives.

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to the UAE and the UK to support the preparation, shipment, delivery, and acceptance of the Guidance Enhanced Missiles (GEM-T).

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs,

Enclosure: Transmittal No. DDTC 20-022.

September 2, 2020

The Honorable Nancy Pelosi, Speaker of the House of Representatives.

Dear Madam Speaker:

Pursuant to Section 36(d) of the Arms Export Control Act, please find enclosed a certification of a proposed license for the export of defense articles, including technical data and defense services, for the manufacture of significant military equipment abroad.

The transaction contained in the attached certification involves the export of defense articles, including technical data and defense services, to Tunisia to support the manufacture, integration, installation, operation, training, testing, maintenance, and repair of the F-135 Propulsion System.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-023.

July 8, 2020

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to the UK support the manufacture, assembly, repair, testing, maintenance, and design modification of various parts and components for the Lift System modules for the F-35 Lightning II Short Take-Off Vertical Landing (STOVL) variant.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-024.

[August 1, 2020]

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to France and Japan to support the development and modification of the Falcon F2000LXS Maritime Surveillance Aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-030.

September 2, 2020

The Honorable Nancy Pelosi, Speaker of the House of Representatives.

Dear Madam Speaker:

Pursuant to Sections 36(c) and (d) of the Arms Export Control Act, please find enclosed a certification of a proposed license for the manufacture of major defense equipment abroad and the export of defense articles, including technical data, and defense services in the amount of $25,000,000 or more.

The transaction contained in the attached certification involves the export of defense articles, including technical data, and defense services to Japan to support the manufacture, assembly, inspection, test and support of the MK41 Vertical Launch System (VLS) for the Aegis Ashore program.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-032.

September 2, 2020

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Poland, France, Ireland and UK to support the design, development, and subsequent manufacture of the 737-800 Next Generation Government Aircraft for Presidential Transport.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-036.

September 2, 2020

The Honorable Nancy Pelosi, Speaker of the House of Representatives.

Dear Madam Speaker:

Pursuant to Section 36(c) of the Arms Export Control Act, please find enclosed a certification of a proposed license amendment for the export of defense articles, including technical data and defense services, in the amount of $100,000,000 or more.

The transaction contained in the attached certification involves the export of defense articles, including technical data and defense services, to Japan to support the operation, installation, provisioning of organizational and intermediate level maintenance, and repairs of the MK15 Phalanx Close-In Weapon System Block 0-1B Baseline 2 and SeaRAM Weapon System.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-038.

September 2, 2020

The Honorable Nancy Pelosi, Speaker of the House of Representatives.

Dear Madam Speaker:

Pursuant to Section 36(c) of the Arms Export Control Act, please find enclosed a certification of a proposed license amendment for the export of defense articles, including technical data and defense services, in the amount of $100,000,000 or more.

The transaction contained in the attached certification involves the export of defense articles, including technical data and defense services, to Israel to support the design, development, engineering, integration, marketing, production, manufacturing, testing, depot level maintenance, modification, demonstration and processing of the Missile Firing Unit (MFU) and Stunner Interceptor Subsystems for the David's Sling Weapon System.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-039.

September 22, 2020

The Honorable Nancy Pelosi, Speaker of the House of Representatives.

Dear Madam Speaker:

The Honorable Pursuant to Section 36(c) of the Arms Export Control Act, please find enclosed a certification of a proposed license amendment for the export of defense articles, including technical data and defense services, in the amount of $100,000,000 or more.

The transaction contained in the attached certification involves the export of defense articles, including technical data and defense services, to Australia and the UK to support the manufacture and sale of F-35 vertical tails and tail fairings and related sub-assemblies.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-042.

September 2, 2020

The Honorable Nancy Pelosi, Speaker of the House of Representatives.

Dear Madam Speaker:

Pursuant to Section 36(d) of the Arms Export Control Act, please find enclosed a certification of a proposed license amendment for the export of defense articles, including technical data and defense services, for the manufacture of significant military equipment abroad.

The transaction contained in the attached certification involves the export of defense articles, including technical data and defense services, to Australia to support the manufacture of the Communication, Navigation, and Identification (CNI) Audio Control Electronic (ACE) module for the F-35 Joint Strike Fighter Aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-051.

September 5, 2020

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Canada, Germany, Israel and the UK to support the post deployment software support activities and upgrades to the UK Combined Arms Tactical Trainer (CATT).

The U.S. government is prepared to license the export of these items having taken into account political, military, economic, human rights, and arms control considerations.

More detailed information is contained in the formal certification which, though unclassified, contains business information submitted to the Department of State by the applicant, publication of which could cause competitive harm to the U.S. firm concerned.

Sincerely,

Ryan M. Kaldahl,

Acting Assistant Secretary of State, Bureau of Legislative Affairs.

Enclosure: Transmittal No. DDTC 20-052.

Paula C. Harrison,
Senior Management Analyst Directorate of Defense Trade Controls, Department of State.

[FR Doc. 2021-03122 Filed 2-16-21; 8:45 am]

BILLING CODE 4710-25-P